DEPARTMENT OF THE INTERIOR

Fish and Wildlife Service

[FWS-R8-ES-2020-N110; FXES11140800000-201-FF08EVEN00]

Endangered and Threatened Wildlife and Plants; Draft Habitat Conservation Plan and Draft Categorical Exclusion for the Santa Barbara County Distinct Population Segment of the California Tiger Salamander; Orcutt Hill Resource and Solar Project, Pacific Coast Energy Company, Santa Barbara County, California

AGENCY: Fish and Wildlife Service, Interior.

ACTION: Notice of availability; request for comments.

SUMMARY: We, the U.S. Fish and Wildlife Service (Service), announce the availability of a draft habitat conservation plan (HCP) and draft categorical exclusion (CatEx) for activities described in an application for an incidental take permit (ITP) under the Endangered Species Act of 1973, as amended. The ITP would authorize take of the Santa Barbara County distinct population segment of the California tiger salamander incidental to activities associated with oil production facilities and a solar photovoltaic system near the city of Orcutt in Santa Barbara County, California. The applicant developed the draft HCP as part of their application for an ITP. The Service prepared a draft CatEx in accordance with the National Environmental Policy Act to evaluate the potential effects to the natural and human environment resulting from issuing an ITP to the applicant. We invite public comment on these documents.

DATES: Written comments should be received on or before June 11, 2021.

ADDRESSES:

Obtaining Documents: You may download a copy of the draft HCP and draft CatEx at http://www.fws.gov/ventura/, or you may request copies of the documents by U.S. mail (below) or by email (see FOR FURTHER INFORMATION CONTACT).

Submitting Written Comments: Please send us your written comments using one of the following methods:

• U.S. mail: Stephen P. Henry, Field Supervisor, Ventura Fish and Wildlife Office, U.S. Fish and Wildlife Service, 2493 Portola Road, Suite B, Ventura, CA 93003.

• Email: rachel_henry@fws.gov.

FOR FURTHER INFORMATION CONTACT: Rachel Henry, Fish and Wildlife Biologist, by email, via the Federal Relay Service at 1-800-877-8339 for TTY assistance, or by mail at the Ventura address (see ADDRESSES).

SUPPLEMENTARY INFORMATION: We, the U.S. Fish and Wildlife Service (Service), announce the availability of a draft habitat conservation plan (HCP) and draft categorical exclusion (CatEx) with an application for an incidental take permit (ITP) by Pacific Coast Energy Company, LLC (applicant). The ITP would authorize take of the federally endangered Santa Barbara County distinct population segment (DPS) of the California tiger salamander (Ambystoma californiense) incidental to activities described in the HCP for activities associated with the operation and maintenance of existing ongoing oil production facilities and operations; the maintenance and management of 101 seep cans; the installation, maintenance, and management of future seep cans; and the installation, operation, and maintenance of a solar photovoltaic system near the City of Orcutt in Santa Barbara County, California. The applicant developed a draft HCP as part of the application for an ITP under section 10(a)(1)(B) of the Endangered Species Act of 1973, as amended (ESA; 16 U.S.C. 1531 et seq.). The Service prepared a draft CatEx in accordance with the National Environmental Policy Act of 1969 (NEPA; 42 U.S.C. 4321 et seq.) to evaluate the potential effects to the natural and human environment resulting from issuing an ITP to the applicant. We invite public comment on these documents.

Background

The Service listed the Santa Barbara County DPS of the California tiger salamander as endangered on September 21, 2000 (65 FR 57242). Section 9 of the ESA prohibits take of fish and wildlife species listed as endangered (16 U.S.C. 1538). Under the ESA, “take” is defined to include the following activities: “to harass, harm, pursue, hunt, shoot, wound, kill, trap, capture, or collect, or to attempt to engage in any such conduct” (16 U.S.C. 1532). Under section 10(a)(1)(B) of the ESA (16 U.S.C. 1539(a)(1)(B)), we may issue permits to authorize take of listed fish and wildlife species that is incidental to, and not the purpose of, carrying out an otherwise lawful activity. Regulations governing incidental take permits for endangered species are in the Code of Federal Regulations (CFR) at 50 CFR 17.22. Issuance of an ITP also must not jeopardize the existence of federally listed fish, wildlife, or plant species, pursuant to section 7 of the ESA and 50 CFR 402.02. The permittee would receive assurances under our “No Surprises” regulations (50 CFR 17.22(b)(5)).

Proposed Activities

The applicant has applied for a permit for incidental take of the Santa Barbara County DPS of the California tiger salamander. The take would occur in association with the operation and maintenance of existing ongoing oil production facilities and installation, operation, and maintenance of a solar photovoltaic system.

The HCP includes avoidance and minimization measures for the Santa Barbara County DPS of the California tiger salamander and mitigation for unavoidable loss of habitat. As mitigation for habitat loss, the applicant proposes to establish a conservation easement within an area that is known to support the Santa Barbara County DPS of the California tiger salamander or purchase credits from a Service-approved mitigation bank.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.22) and NEPA (42 U.S.C. 4321 et seq.) and its implementing regulations (40 CFR 1506.6).

Stephen Henry,
Field Supervisor, Ventura Fish and Wildlife Office, Ventura, California.

[FR Doc. 2021-10045 Filed 5-11-21; 8:45 am]

BILLING CODE 4333-15-P